DEPARTMENT OF DEFENSE

Office of the Secretary

Notice of the Defense Acquisition Performance Assessment Project—Open Meeting

AGENCY: Department of Defense.

ACTION: Notice; Defense Acquisition Performance Assessment Project—Open Meeting.

SUMMARY: Pursuant to the Federal Advisory Committee Act (FACA), Public Law 96-463, notice is hereby given that the Defense Acquisition Performance Assessment (DAPA) Project will hold an open meeting at the Anteon Conference Center, 1560 Wilson Blvd., Suite 400, Arlington, VA 22209, on July 15, 2005 from 9 to 12 noon.

Purpose: The Panel will meet on July 15, 2005, from 9 a.m. until 12 noon, and this session will be open to the public, subject to the availability of space. Any interested citizens are encouraged to attend.

DATES: July 15, 2005/9 a.m.-12 noon.

Location: Anteon Conference Center, 1560 Wilson Blvd., Suite 400, Arlington, VA 22209.

FOR FURTHER INFORMATION CONTACT: Any member of the public wishing further information concerning this meeting or wishing to submit comments must contact: Lt Col Rene Bergeron, Assistant Director of Staff, Defense Acquisition Performance Assessment Project, 1670 Air Force Pentagon, Rm 4E886, Washington, DC 20330-1670, Telephone: (703) 6935-8813, DSN# 225-8813, Fax: (703) 693-4303, rene.bergeron@pentagon.af.mil.

Interested persons may submit a written statement for consideration by the Panel, preferably via fax. Written statements to the Panel must be directed to the point of contact listed above, received no later than 5 p.m., July 13, 2005.

General Information: Additional information concerning the Defense Acquisition Performance Assessment Project, its structure, function, and composition, may be found on the DTFSH and VTMA Web site (http://www.dtic.mil/dtfs).

Dated: June 17, 2005.
Jeannette Owings-Ballard,
OSD Federal Register Liaison Officer, Department of Defense.

[FR Doc. 05-12424 Filed 6-22-05; 8:45 am]

BILLING CODE 5001-06-P